DEPARTMENT OF ENERGY

Federal Energy Regulatory Commission

Combined Notice of Filings #1

Take notice that the Commission received the following electric corporate filings:

Docket Numbers: EC15-43-000.

Applicants: Niagara Generation, LLC.

Description: Amendment to December 1, 2014 Application of Niagara Generation, LLC and NiGen, LLC for Expedited Approval of Intra-Corporate Transfer Under Section 203 of the Federal Power Act.

Filed Date: 12/4/14.

Accession Number: 20141204-5223.

Comments Due: 5 p.m. ET 12/22/14.

Docket Numbers: EC15-45-000.

Applicants: New York Transco, LLC, Consolidated Edison Company of New York, Inc., Orange and Rockland Utilities, Inc., New York State Electric & Gas Corporation, Rochester Gas & Electric Corporation, Central Hudson Gas & Electric Corporation, Niagara Mohawk Power Corporation.

Description: Application for Approval under Section 203 of the Federal Power Act and Request for Confidential Treatment and Waivers of New York Transco, LLC, et. al.

Filed Date: 12/4/14.

Accession Number: 20141204-5225.

Comments Due: 5 p.m. ET 12/26/14.

Take notice that the Commission received the following exempt wholesale generator filings:

Docket Numbers: EG15-21-000.

Applicants: Sierra Solar Greenworks, LLC.

Description: Notice of Self-Certification of EWG Status of Sierra Solar Greenworks, LLC.

Filed Date: 12/4/14.

Accession Number: 20141204-5036.

Comments Due: 5 p.m. ET 12/26/14.

Docket Numbers: EG15-22-000.

Applicants: Rising Tree Wind Farm III LLC.

Description: Notice of Self-Certification of Exempt Wholesale Generator Status of Rising Tree Wind Farm III LLC.

Filed Date: 12/5/14.

Accession Number: 20141205-5088.

Comments Due: 5 p.m. ET 12/26/14.

Docket Numbers: EG15-23-000.

Applicants: NiGen, LLC.

Description: Self-Certification of EWG of NiGen, LLC.

Filed Date: 12/5/14.

Accession Number: 20141205-5203.

Comments Due: 5 p.m. ET 12/26/14.

Take notice that the Commission received the following electric rate filings:

Docket Numbers: ER10-2507-004.

Applicants: Westar Energy, Inc.

Description: Notice of Non-Material Change in Status of Westar Energy, Inc.

Filed Date: 12/4/14.

Accession Number: 20141204-5228.

Comments Due: 5 p.m. ET 12/26/14.

Docket Numbers: ER14-1173-003.

Applicants: Duke Energy Carolinas, LLC.

Description: Tariff Amendment per 35.17(b): Amendment to NCEMC SA 210 NITSA Filing to be effective 1/1/2014.

Filed Date: 12/5/14.

Accession Number: 20141205-5191.

Comments Due: 5 p.m. ET 12/26/14.

Docket Numbers: ER14-2372-002.

Applicants: California Independent System Operator Corporation.

Description: Compliance filing per 35: 2014-12-05_OMS_Waiver to be effective N/A.

Filed Date: 12/5/14.

Accession Number: 20141205-5300.

Comments Due: 5 p.m. ET 12/26/14.

Docket Numbers: ER15-582-000.

Applicants: PacifiCorp.

Description: Tariff Withdrawal per 35.15: Termination of BPA Agmt for Work at Hat Rock Mod 2 to be effective 2/15/2015.

Filed Date: 12/4/14.

Accession Number: 20141204-5186.

Comments Due: 5 p.m. ET 12/26/14.

Docket Numbers: ER15-583-000.

Applicants: Pacific Gas and Electric Company.

Description: § 205(d) rate filing per 35.13(a)(2)(iii): Amendment to BART NITSA (Oakland Connector) Filing to be effective 12/5/2014.

Filed Date: 12/4/14.

Accession Number: 20141204-5206.

Comments Due: 5 p.m. ET 12/26/14.

Docket Numbers: ER15-584-000.

Applicants: ISO New England Inc.

Description: Compliance filing per 35: Filing in Response to Order EL11-66-001—CTMEEC Sch. 21 to be effective 11/17/2014.

Filed Date: 12/5/14.

Accession Number: 20141205-5084.

Comments Due: 5 p.m. ET 12/26/14.

Docket Numbers: ER15-585-000.

Applicants: Mesquite Solar 1, LLC.

Description: § 205(d) rate filing per 35.13(a)(2)(iii): Mesquite Solar 1, LLC Inter-Company Shared Facilities Agreement to be effective 12/10/2014.

Filed Date: 12/5/14.

Accession Number: 20141205-5125.

Comments Due: 5 p.m. ET 12/26/14.

Docket Numbers: ER15-586-000.

Applicants: Mesquite Solar 1, LLC.

Description: § 205(d) rate filing per 35.13(a)(2)(iii): Mesquite Solar 1, LLC Inter-Phase Shared Facilities Agreement to be effective 12/10/2014.

Filed Date: 12/5/14.

Accession Number: 20141205-5127.

Comments Due: 5 p.m. ET 12/26/14.

Docket Numbers: ER15-587-000.

Applicants: SEP II, LLC.

Description: § 205(d) rate filing per 35.13(a)(2)(iii): SEP II, LLC Concurrence to Inter-Company Shared Facilities Agreement to be effective 12/10/2014.

Filed Date: 12/5/14.

Accession Number: 20141205-5137.

Comments Due: 5 p.m. ET 12/26/14.

Docket Numbers: ER15-588-000.

Applicants: SEP II, LLC.

Description: § 205(d) rate filing per 35.13(a)(2)(iii): SEP II, LLC Concurrence to Inter-Phase Shared Facilities Agreement to be effective 12/10/2014.

Filed Date: 12/5/14.

Accession Number: 20141205-5157.

Comments Due: 5 p.m. ET 12/26/14.

Docket Numbers: ER15-589-000.

Applicants: Central Maine Power Company.

Description: § 205(d) rate filing per 35.13(a)(2)(iii): Atlantic Wind LLC Engineering & Procurement Agreement to be effective 12/4/2014.

Filed Date: 12/5/14.

Accession Number: 20141205-5159.

Comments Due: 5 p.m. ET 12/26/14.

Docket Numbers: ER15-590-000.

Applicants: ITC Great Plains, LLC.

Description: Tariff Withdrawal per 35.15: Termination of Lease Agreement to be effective 12/31/2014.

Filed Date: 12/5/14.

Accession Number: 20141205-5183.

Comments Due: 5 p.m. ET 12/26/14.

Docket Numbers: ER15-591-000.

Applicants: PJM Interconnection, L.L.C.

Description: § 205(d) rate filing per 35.13(a)(2)(iii): Revisions to OA Sec 18.17 Confidentiality Provisions—Real-time Generator Data to be effective 2/5/2015.

Filed Date: 12/5/14.

Accession Number: 20141205-5188.

Comments Due: 5 p.m. ET 12/26/14.

Docket Numbers: ER15-592-000.

Applicants: Duke Energy Indiana, Inc.

Description: Request for Waiver of MISO Tariff Resource Adequacy Requirements of Duke Energy Indiana, Inc.

Filed Date: 12/5/14.

Accession Number: 20141205-5222.

Comments Due: 5 p.m. ET 12/26/14.

Docket Numbers: ER15-593-000.

Applicants: ISO New England Inc., New England Power Pool Participants Committee.

Description: § 205(d) rate filing per 35.13(a)(2)(iii): Rev. to Minimum Cap. Req. in the FAP to be effective 2/5/2015.

Filed Date: 12/5/14.

Accession Number: 20141205-5238.

Comments Due: 5 p.m. ET 12/26/14.

Docket Numbers: ER15-594-000.

Applicants: Central Maine Power Company.

Description: § 205(d) rate filing per 35.13(a)(2)(iii): Executed Interconnection Agreement with ecomaine to be effective 1/1/2015.

Filed Date: 12/5/14.

Accession Number: 20141205-5259.

Comments Due: 5 p.m. ET 12/26/14.

Docket Numbers: ER15-595-000.

Applicants: Covanta Fairfax, Inc.

Description: § 205(d) rate filing per 35.13(a)(2)(iii): Application for Market-Based Rate Authorization to be effective 2/3/2015.

Filed Date: 12/5/14.

Accession Number: 20141205-5270.

Comments Due: 5 p.m. ET 12/26/14.

Docket Numbers: ER15-596-000.

Applicants: PJM Interconnection, L.L.C.

Description: § 205(d) rate filing per 35.13(a)(2)(iii): Revisions to OATT Schedule 12-Appendix A re: recent update to RTEP to be effective 3/5/2015.

Filed Date: 12/5/14.

Accession Number: 20141205-5288.

Comments Due: 5 p.m. ET 12/26/14.

Docket Numbers: ER15-597-000.

Applicants: Hess Corporation.

Description: Tariff Withdrawal per 35.15: Cancellation of Hess Corporations FERC Electric Rate Schedule No 1 to be effective 12/6/2014.

Filed Date: 12/5/14.

Accession Number: 20141205-5310.

Comments Due: 5 p.m. ET 12/26/14.

Docket Numbers: ER15-598-000.

Applicants: Southern California Edison Company.

Description: § 205(d) rate filing per 35.13(a)(2)(iii): GIA and Distribution Service Agmt with Cameron Ridge, LLC to be effective 11/25/2014.

Filed Date: 12/8/14.

Accession Number: 20141208-5005.

Comments Due: 5 p.m. ET 12/29/14.

Take notice that the Commission received the following public utility holding company filings:

Docket Numbers: PH15-2-001.

Applicants: Consolidated Edison, Inc.

Description: Consolidated Edison, Inc. submits FERC 65-B Material Change in Facts of Waiver Notification.

Filed Date: 12/4/14.

Accession Number: 20141204-5230.

Comments Due: 5 p.m. ET 12/26/14.

Take notice that the Commission received the following PURPA 210(m)(3) filings:

Docket Numbers: QM14-3-000.

Applicants: Entergy Arkansas, Inc., Entergy Gulf States Louisiana, L.L.C., Entergy Louisiana, LLC, Entergy Mississippi, Inc., Entergy New Orleans, Inc., Entergy Services, Inc., Entergy Texas, Inc.

Description: Response to Deficiency Letter of Entergy Services, Inc., et. al. under QM14-3.

Filed Date: 12/5/14.

Accession Number: 20141205-5322.

Comments Due: 5 p.m. ET 1/2/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 8, 2014.
Nathaniel J. Davis, Sr.,
Deputy Secretary.

[FR Doc. 2014-29209 Filed 12-12-14; 8:45 am]

BILLING CODE 6717-01-P